DEPARTMENT OF DEFENSE

Department of the Army

Privacy Act of 1974; System of Records

AGENCY: Department of the Army, DoD.

ACTION: Notice to Amend a System of Records.

SUMMARY: The Department of the Army is amending a system of records notice in its existing inventory of records systems subject to the Privacy Act of 1974, (5 U.S.C. 552a), as amended, and deleting one system of records.

DATES: This proposed action will be effective without further notice on June 8, 2001, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: May 3, 2001.
L.M. Bynum,
Alternate OSD Federal Register Liaison Officer, Department of Defense.

AAFES 0602.04a

SYSTEM NAME:

Litigation Initiated by AAFES (August 9, 1996, 61 FR 41581).

Changes:

* * * * *

System name:

Delete entry and replace with ‘Legal Office Management System’.

* * * * *

Authority for maintenance of the system:

Delete entry and replace with ‘10 U.S.C. 3013, Secretary of the Army; 10 U.S.C. 8013, Secretary of the Air Force; Army Regulation 215-1, The Administration of Morale, Welfare, and Recreation Activities and Non-appropriate Fund Instrumentalities; Army Regulation 60-21, Personnel Policies; and E.O. 9397 (SSN).’

* * * * *

Retrievability:

Add to entry ‘Social Security Number’.

* * * * *

Retention and disposal:

Delete second sentence.

* * * * *

AAFES 0602.04a

System name:

Legal Office Management System.

System location:

Office of the General Counsel at Headquarters, Army and Air Force Exchange Service, 3911 S. Walton Walker Boulevard, Dallas, TX 75236-1598; and

Headquarters Army and Air Force Exchange Service-Europe, In der Witz 14-18, 55252 Mainz-Kastel, APO AP 96378-5163.

Categories of individuals covered by the system:

Individuals against whom Army and Air Force Exchange Service (AAFES) has filed a complaint or similar pleading in a court or administrative body.

Categories of records in the system:

Pleadings and documents filed by parties to the action and documentation, correspondence, and memoranda pertaining thereto.

Authority for maintenance of the system:

10 U.S.C. 3013, Secretary of the Army; 10 U.S.C. 8013, Secretary of the Air Force; Army Regulation 215-1, The Administration of Morale, Welfare, and Recreation Activities and Non-appropriate Fund Instrumentalities; Army Regulation 60-21, Personnel Policies;and E.O. 9397 (SSN).

Purpose(s):

To process complaints against individuals; to initiate litigation as necessary.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanke Routine Uses” set forth at the beginning of the Army's compilation of systems of records notices apply to this system.

Disclosure to consumer reporting agencies:

Disclosures pursuant to 5 U.S.C. 552a(b)(12) may be made from this system to “consumer reporting agencies” as defined in the Fair Credit Reporting Act (15 U.S.C. 1681a(f)) or the Federal Claims Collection Act of 1966 (31 U.S.C. 3701(A)(3)). The purpose of this disclosure is to aid in the collection of outstanding debts owed to the Federal government; typically to provide an incentive for debtors to repay delinquent Federal government debts by making these debts part of their credit records.

Disclosure of records is limited to the individual's name, address, Social Security Number, and other information necessary to establish the individual's identity; the amount, status, and history of the claim; and the agency program under which the claim arose. This disclosure will be made only after the procedural requirement of 31 U.S.C. 3711(f) has been followed.

Policies and practices for storing, retrieving, accessing, retaining, and disposing of records in the system:

Storage:

Paper records in file folders and on electronic storage media.

Retrievability:

By surname and Social Security Number of defendant in the proceeding.

Safeguards

Records are maintained in buildings have security guards and are restricted to authorized personnel who are properly screened, cleared. Access to computer databases is limited to users with passwords. AAFES management monitors use of the system.

Retention and disposal:

Records are permanent.

System manager(s) and address:

Commander, Army and Air Force Exchange Service, 3911 S. Walton Walker Boulevard, Dallas, TX 75236-1598.

Notification procedure:

Individuals seeking to determine whether information about themselves is contained in this system should address written inquiries to the Commander, Army and Air Force Exchange Service, ATTN: General Counsel, 3911 S. Walton Walker Boulevard, Dallas, TX 75236-1598.

Individual should provide their full name, current address and telephone number, copy of latest correspondence from AAFES, if available, and signature.

Record access procedures:

Individuals seeking access to information about themselves contained in this system should address written inquiries to the Commander, Army and Air Force Exchange Service, ATTN: General Counsel, 3911 S. Walton Walker Boulevard, Dallas, TX 75236-1598.

[FR Doc. 01-11643 Filed 5-8-01; 8:45 am]

BILLING CODE 5001-08-M